DEPARTMENT OF HOMELAND SECURITY

Coast Guard

33 CFR Part 117

[Docket No. USCG-2015-0463]

Drawbridge Operation Regulation; Duwamish Waterway, Seattle, WA

AGENCY: Coast Guard, DHS.

ACTION: Notice of deviation from drawbridge regulation.

SUMMARY: The Coast Guard has issued a temporary deviation from the operating schedule that governs the Spokane Street Swing Bridge across the Duwamish Waterway, mile 0.3, at Seattle, WA. The deviation is necessary to enable timely completion of new electrical equipment. This deviation allows the drawbridge to remain in the closed-to-navigation position for marine traffic.

DATES: This deviation is effective from 8 a.m. to Noon on June 1, 2015.

ADDRESSES: The docket for this deviation, [USCG-2015-0463] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Steven M. Fischer, Thirteenth Coast Guard District Bridge Administrator; telephone 206-220-7282, email: d13-pf-d13bridges@uscg.mil. If you have questions on viewing the docket, call Cheryl Collins, Program Manager, Docket Operations, telephone 202-366-9826.

SUPPLEMENTARY INFORMATION: The Seattle Department of Transportation (SDOT) has requested a deviation from the operating schedule of Spokane Street Swing Bridge to install new electrical equipment. SDOT chose this date and time to coordinate a work day during a low tide to minimize any impacts with waterway traffic. The Spokane Street Bridge is located in the Duwamish Waterway, mile 0.3, at Seattle, WA, and provides 55 feet of vertical clearance at center span, and 44 feet of vertical clearance at the east and west sides of the navigation channel while in the closed position. Vessels have unlimited vertical clearance with the swing span in the fully open position. Vertical clearances are referenced to mean high-water elevation.

The deviation period is from 8 a.m. to Noon on June 1, 2015. The deviation allows the Spokane Street Swing Bridge across the Duwamish Waterway, mile 0.3, at Seattle, WA, to remain in the closed-to-navigation position and need not open for maritime traffic from 8 a.m. to Noon on June 1, 2015.

The normal operating schedule for the bridge is in 33 CFR 117.1041, which specifies that the draws of each bridge across the Duwamish Waterway shall open on signal. The deviation period is effective from 8 a.m. to Noon on June 1, 2015, and allows the drawbridge to remain in the closed-to-navigation position. Vessel traffic on the Duwamish waterway consists of vessels ranging from small pleasure craft, sailboats, small tribal fishing boats, and commercial tug and tow, and mega yachts.

Vessels able to pass through the bridge in the closed position may do so at any time, but are requested to transit at a minimum safe speed with no wake for worker safety. The bridge will not be able to open for emergencies, and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: May 15, 2015.
Steven M. Fischer,
Bridge Administrator, Thirteenth Coast Guard District.

[FR Doc. 2015-12434 Filed 5-21-15; 8:45 am]

BILLING CODE 9110-04-P